DEPARTMENT OF ENERGY

Federal Energy Regulatory Commission

[Docket No. EC04-80-000, et al.]

NEGT Enterprises, Inc., et al.; Electric Rate and Corporate Filings

March 26, 2004.

The following filings have been made with the Commission. The filings are listed in ascending order within each docket classification.

1. NEGT Enterprises, Inc.; National Energy Holdings Corporation; Beech Power Corporation; Plover Power Corporation; Dispersed Power Corporation; San Gorgonio Power Corporation; Larkspur Power Corporation; and Eagle Power Corporation; On Behalf of Themselves and Their Public Utility Subsidiaries

[Docket No. EC04-80-000]

Take notice that on March 25, 2004, NEGT Enterprises, Inc., National Energy Holdings Corporation, Beech Power Corporation, Plover Power Corporation, Dispersed Power Corporation, San Gorgonio Power Corporation, Larkspur Power Corporation, and Eagle Power Corporation, on behalf of themselves and their public utility subsidiaries, filed with the Federal Energy Regulatory Commission an application pursuant to Section 203 of the Federal Power Act for authorization to complete the proposed intra-corporate reorganization described more fully in the Application.

Comment Date: April 15, 2004.

2. PPL Distributed Generation, LLC

[Docket No. EG04-44-000]

On March 24, 2004, PPL Distributed Generation, LLC (PPL Distributed), filed with the Federal Energy Regulatory Commission an application for determination of exempt wholesale generator status pursuant to Part 365 of the Commission's regulations.

PPL Distributed states that it is a Delaware limited liability company formed for the purpose of owning and operating certain distributed generation facilities located in New Jersey. PPL Distributed further states that it is an indirect subsidiary of PPL Corporation, a public utility holding company exempt from registration under Section 3(a)(1) of the Public Utility Holding Company Act of 1935.

Comment Date: April 14, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-745 Filed 4-02-04; 8:45 am]

BILLING CODE 6717-01-P